DEPARTMENT OF ENERGY

Federal Energy Regulatory Commission

Notice of Attendance at NYISO Meetings

June 2, 2009.

The Federal Energy Regulatory Commission hereby gives notice that members of the Commission and Commission staff may attend the following upcoming NYISO meetings:

• NYISO Business Issues Committee.

• June 10 (Rensselaer, NY).

• July 22 (Rensselaer, NY).

• NYISO Management Committee.

• June 15 (Albany, NY).

• June 24 (Rensselaer, NY).

• July 27 (Rensselaer, NY).

• NYISO ICAP Working Group.

• June 5 (Rensselaer, NY).

• July 7 (Rensselaer, NY).

• NYISO Transmission Planning Advisory Committee.

• July 7 (Rensselaer, NY).

• NYISO Joint Board of Directors & Management Committee.

• June 16 (Albany, NY).

For additional meeting information, see http://www.nyiso.com/public/committees/calendar/index.jsp.

The discussions at each of the meetings described above may address matters at issue in the following proceedings:

Docket No. ER09-945, New York Independent System Operator, Inc.

Docket Nos. EL07-39 and ER08-695, New York Independent System Operator, Inc.

Docket No. ER09-1142, New York Independent System Operator, Inc.

Docket Nos. ER01-3001-021/ER03-647-012 and ER01-3001-022/ER03-647-013, New York Independent System Operator, Inc.

Docket No. ER09-405, New York Independent System Operator, Inc.

Docket No. ER04-449, New York Independent System Operator, Inc.

Docket No. OA08-52; New York Independent System Operator, Inc.

Docket No. OA09-26; New York Independent System Operator, Inc.

The meetings are open to stakeholders. For more information, contact Jesse Hensley, Office of Energy Markets Regulation, Federal Energy Regulatory Commission at (202) 502-6228 or Jesse.Hensley@ferc.gov.

Kimberly D. Bose,
Secretary.

[FR Doc. E9-13364 Filed 6-8-09; 8:45 am]

BILLING CODE 6717-01-P